DEPARTMENT OF ENERGY

International Energy Agency Meetings

AGENCY: Department of Energy, DoE.

ACTION: Notice of meetings.

SUMMARY: The Industry Advisory Board (IAB) to the International Energy Agency (IEA) will meet on March 28 and 29, 2012, at the headquarters of the IEA in Paris, France in connection with a joint meeting of the IEA's Standing Group on Emergency Questions (SEQ) and the IEA's Standing Group on the Oil Market (SOM) on March 28; and in connection with a meeting of the SEQ on March 29.

DATES: March 28-29, 2012.

ADDRESSES: 9, rue de la Fédération, Paris, France.

FOR FURTHER INFORMATION CONTACT: Diana D. Clark, Assistant General for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on March 28, 2012, beginning at 9:30 a.m., and continuing on March 29 at 9 a.m. The purpose of this notice is to permit attendance by representatives of U.S. company members of the IAB at a joint meeting of the IEA's Standing Group on Emergency Questions (SEQ) and the IEA's Standing Group on the Oil Market (SOM) which is scheduled to be held at the headquarters of the IEA on March 28 commencing at 9:30 a.m.; and a meeting of the SEQ, which is scheduled to be held at the headquarters of the IEA on March 29 commencing at 9 a.m. The IAB will also hold a preparatory meeting among company representatives at the same location at 8:30 a.m. on March 28. The agenda for this preparatory meeting is to review the agendas for the joint SEQ/SOM meeting on March 28 and the SEQ meeting on March 29.

The agenda of the joint session of the SEQ and the SOM on March 28 is under the control of the SEQ and the SOM. It is expected that the SEQ and the SOM will adopt the following agenda:

1. Adoption of the Agenda

2. Approval of the Summary Record of the November 2011 Joint Session

3. Reports on Recent Oil Market and Policy Developments in IEA Countries

4. The Program of Work

—Priority Setting Exercise 2013-2014

—Potential Project Work for Voluntary Contributions Support

5. The Current Oil Market Situation

6. Update on the Gas Market; Focus on LNG Trading

7. Reports on Recent IEA-IEF-OPEC Cooperation

—Workship on Physical and Financial Markets (Vienna, November 2011)

—Symposium on Energy Outlooks (Riyadh, January 2012)

—13th IEF, Kuwait, March 2012

8. Progress on Voluntary Contributions-Funded Report: European Refinery Rationalization

—Impact on Product Supplies

—Impact on Stockholding

9. Other Business

—Tentative Schedule of Upcoming Meetings:

June 26-28, 2012

October 17-18, 2012

November 27-29, 2012 (ERE6)

10. Workshop: The Financialization of Oil Markets

The agenda of the SEQ meeting on March 29 is under the control of the SEQ. It is expected that the SEQ will adopt the following agenda:

1. Introductory Remarks by Director of Energy Markets and Security

2. Adoption of the Agenda

3. Approval of the Summary Record of the 134th Meeting

4. Status of Compliance with IEP Stockholding Commitments

5. Emergency Response Review Program

—Schedule of Emergency Response Reviews

—Emergency Response Review of France

—Emergency Response Review of Switzerland

—Emergency Response Review of The Netherlands

—Questionnaire Response of Finland

—Questionnaire Response of Germany

—Questionnaire Response of Sweden

6. Emergency Response Exercises

—Preparations for ERE6

7. Emergency Response Measures

—Costs and Benefits of Stockholding (Progress Report)

8. Policy and Other Developments in Member Countries

—Mid-Term Emergency Response Review of Belgium

—Mid-Term Emergency Response Review of Portugal

—Oral Reports by Administrations

9. Report from the Industry Advisory Board

10. Review of Libya Collective Action

—Report on Governing Board Discussion

—Emergency Questionnaire QuE

11. Activities with International Organizations and Non-Member Countries

—ASEAN (APSA)

—Chile

—China

—Estonia

—India

—Indonesia

—Thailand

12. Documents for Information

—Emergency Reserve Situation of IEA Member Countries on October 1, 2011

—Emergency Reserve Situation of IEA Member Countries on January 1, 2012

—Base Period Final Consumption: 4Q 2010-3Q 2011

—Base Period Final Consumption: 1Q 2011-4Q 2011

—Updated Emergency Contacts List

13. Other Business

—Tentative Schedule of Next Meetings:

—June 26-28, 2012

—October 17-18, 2012

—November 27-29, 2012 (ERE6)

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 16, 2012.
Diana D. Clark
Assistant General Counsel for International and National Security Programs.

[FR Doc. 2012-6943 Filed 3-21-12; 8:45 am]

BILLING CODE 6450-01-P